SMALL BUSINESS ADMINISTRATION

[Disaster Declaration #12266 and #12267]

Texas Disaster Number TX-00361

AGENCY: U.S. Small Business Administration.

ACTION: Amendment 2.

SUMMARY: This is an amendment of the Presidential declaration of a major disaster for the State of Texas (FEMA-1931-DR), dated 08/03/2010.

Incident: Hurricane Alex.

Incident Period: 06/30/2010 through 08/14/2010.

Effective Date: 09/16/2010.

Physical Loan Application Deadline Date: 10/04/2010.

EIDL Loan Application Deadline Date: 05/03/2011.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the State of Texas, dated 08/03/2010 is hereby amended to include the following areas as adversely affected by the disaster:

Primary Counties: (Physical Damage and Economic Injury Loans):

Lubbock.

Contiguous Counties: (Economic Injury Loans Only):

Texas: Crosby, Floyd, Garza, Hale, Hockley, Lamb, Lynn, Terry.

All other information in the original declaration remains unchanged.

(Catalog of Federal Domestic Assistance Numbers 59002 and 59008)

James E. Rivera,
Associate Administrator for Disaster Assistance.

[FR Doc. 2010-23803 Filed 9-22-10; 8:45 am]

BILLING CODE 8025-01-P